DEPARTMENT OF TRANSPORTATION

Federal Railroad Administration

Notice of Request for an Extension of an Informational Filing

In accordance with Title 49 Code of Federal Regulations (CFR) 236.913, notice is hereby given that the Federal Railroad Administration (FRA) has received a request for extension of an informational filing from the Union Pacific Railroad Company (UP) to permit continued field testing of the railroad's processor-based train control systems. For informational purposes only, the original informational filing is briefly described below, including the submitting party and the requisite docket number where the original informational filing, the informational filing extension request and any related information may be found. These documents are also available for public inspection; however, FRA is not accepting public comment on the documents.

Union Pacific Railroad Company

[Docket Number FRA-2007-27322]

UP has submitted an informational filing to FRA to permit field testing of the railroad's processor-based train control systems identified as Vital-Train Management System (V-TMS). The informational filing addresses the requirements under 49 CFR 236.913(j)(1).

Specifically, the informational filing contains a description of the V-TMS product and an operational concepts document, pursuant to 49 CFR 236.913(j)(1). V-TMS is a locomotive-centric, vital train control system designed to be overlaid on existing methods of operation and intended to provide a high level of railroad safety through enforcement of authority limits, permanent speed restrictions and temporary speed restrictions.

UP requests that the formal test and demonstration period for this informational filing be extended until December 31, 2015, or until such time as this informational filing is superseded by an FRA approved PTC Implementation Plan.

Interested parties are invited to review the informational filing and associated documents at the following locations:

• Web site: http://www.regulations.gov. Follow the instructions for a simple search on the DOT electronic docket site (Docket Number FRA-2007-27322). All documents in the public docket that are associated with the informational filing are available on the web site for inspection and copying.

• Fax: 202-493-2251.

• Mail: U.S. Department of Transportation, Docket Operations, Room W12-140, 1200 New Jersey Avenue, SE., Washington, DC, between 9 a.m. and 5 p.m., Monday through Friday, except Federal Holidays.

You may review the DOT's complete Privacy Act Statement in the Federal Register published on April 11, 2000 (Volume 65, Number 70; Pages 19477-78). The Statement may also be found at http://www.regulations.gov.

Issued in Washington, DC on October 6, 2009.
Grady C. Cothen, Jr.,
Deputy Associate Administrator for Safety Standards and Program Development.

[FR Doc. E9-24478 Filed 10-9-09; 8:45 am]

BILLING CODE 4910-06-P